DEPARTMENT OF ENERGY

[GDO Docket No. EA-260-G]

Application for Renewal of Authorization To Export Electric Energy; CP Energy Marketing (US) Inc.

AGENCY: Grid Deployment Office, Department of Energy.

ACTION: Notice of application.

SUMMARY: CP Energy Marketing (US) Inc. (Applicant or CP Energy Marketing) has applied for renewed authorization to transmit electric energy from the United States to Canada pursuant to the Federal Power Act.

DATES: Comments, protests, or motions to intervene must be submitted on or before April 29, 2024.

ADDRESSES: Comments, protests, motions to intervene, or requests for more information should be addressed by electronic mail to Electricity.Exports@hq.doe.gov.

FOR FURTHER INFORMATION CONTACT: Christina Gomer, (240) 474-2403, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) by Delegation Order No. S1-DEL-S3-2023 and Redelegation Order No. S3-DEL-GD1-2023.

On May 31, 2019, DOE issued Order No. EA-260-F to CP Energy Marketing to transmit electric energy from the United States to Canada as a power marketer for a period of five years. On March 11, 2024, CP Energy Marketing filed an application with DOE (Application or App.) for renewal of its export authority for a five-year term. App. at 1.

According to the Application, CP Energy Marketing is a Delaware corporation with its principal place of business in Boston, Massachusetts, that is an indirect wholly owned subsidiary of Capital Power Corporation, a public Canadian corporation. Id. at 2. CP Energy Marketing represents that it is a power marketer engaged in the business of marketing and trading electric energy and other energy-related products in the United States with market-based rate authority from the Federal Energy Regulatory Commission (FERC). Id.

The Applicant states that it “does not own, operate[,] or control any electric generation, transmission or distribution facilities” and “neither has franchised service area nor has entered into any contracts that confer ownership or control over generation capacity to CP Energy Marketing.” App. at 2. The Applicant represents that it “will purchase the power it plans to export voluntarily through the electric energy markets in the United States and/or from electric utilities, wholesale generators, power marketers and other parties, and thus such power will be surplus to the needs of the selling parties or organization.” Id. at 4. CP Energy Marketing also states it “will make all necessary commercial arrangements and will obtain any and all other regulatory approvals required in order to carry out any power exports.” Id. CP Energy Marketing asserts its “export of power will not impair or tend to impede the sufficiency of electric power supplies in the United States or the regional coordination of electric utility planning or operation. Id.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning CP Energy Marketing's Application should be clearly marked with GDO Docket No. EA-260-G. Additional copies are to be provided directly to Colleen Smith, CP Energy Marketing (US) Inc. c/o Capital Power Corporation, 155 Federal Street, Suite 1200, Boston, MA 02110, notices@captialpower.com, and Peter P. Thieman and Clarence R. Hawkes III, Dentons US LLP, 1900 K Street NW, Washington, DC 20006, peter.thieman@dentons.com, clarence.hawkes@dentons.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on March 25, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on March 26, 2024.
Treena V. Garrett,
Federal Register Liaison Officer, U.S. Department of Energy.

[FR Doc. 2024-06733 Filed 3-28-24; 8:45 am]

BILLING CODE 6450-01-P